DEPARTMENT OF LABOR

Employment and Training Administration

[TA-W-85,379; TA-W-85,379A]

Autoliv ASP, Inc., Autoliv Electronics Division, Production Operations Department, Including On-Site Leased Workers From Technical Needs, Lowell, Massachusetts; Aerotek, Working On-Site at Autoliv ASP, Inc., Autoliv Electronics Division, Production Operations Department, Lowell, Massachusetts; Amended Certification Regarding Eligibility To Apply for Worker Adjustment Assistance

In accordance with Section 223 of the Trade Act of 1974, as amended (“Act”), 19 U.S.C. 2273, the Department of Labor issued a Certification of Eligibility to Apply for Worker Adjustment Assistance on August 14, 2014, applicable to workers of Autoliv ASP, Inc., Autoliv Electronics Division, Production Operations Department, Lowell, Massachusetts, including on-site leased workers from Technical Needs. The Department's Notice of Determination was published in the Federal Register on September 11, 2014 (79 FR 54297). On May 14, 2015, the Department issued an amended certification to include on-site leased workers from Aerotek (TA-W-85,379A).

At the request of a State Workforce Official, the Department reviewed the certification for workers of the subject firm. The workers were engaged in activities related to the production of radar sensors.

A review of the determination revealed that the amended certification omitted reference to alternative trade adjustment assistance. The original investigation and the amendment investigation confirmed that the worker group as a whole meets the group eligibility requirements under Section 246(a)(3)(A)(ii) of the Trade Act.

Based on these findings, the Department is amending this certification to clarify that on-site leased workers from Aerotek are eligible to apply for alternative trade adjustment assistance.

The amended notice applicable to TA-W-85,379 is hereby issued as follows:

All workers of Autoliv ASP, Inc., Autoliv Electronics Division, Production Operations Department, including on-site leased workers from Technical Needs, Lowell, Massachusetts (TA-W-85,379), who became totally or partially separated from employment on or after June 5, 2013, through two years from the date of certification, are eligible to apply for adjustment assistance under Chapter 2 of Title II of the Trade Act of 1974, as amended, and are also eligible to apply for alternative trade adjustment assistance under Section 246 of the Trade Act of 1974, as amended.

And

All workers of Aerotek, reporting to Autoliv ASP, Inc., Autoliv Electronics Division, Production Operations Department, Lowell, Massachusetts (TA-W-85,379A), who became totally or partially separated from employment on or after June 5, 2013, through August 14, 2016, and all workers in the group threatened with total or partial separation from employment on the date of certification through two years from the date of certification, are eligible to apply for adjustment assistance under Chapter 2 of Title II of the Trade Act of 1974, as amended and are also eligible to apply for alternative trade adjustment assistance under Section 246 of the Trade Act of 1974, as amended.

Signed in Washington, DC, this 29th day of May 2015.
Michael W. Jaffe,
Certifying Officer, Office of Trade Adjustment Assistance.

[FR Doc. 2015-15959 Filed 6-29-15; 8:45 am]

BILLING CODE 4510-FN-P